DEPARTMENT OF HEALTH AND HUMAN SERVICES

Centers for Disease Control and Prevention

Agency for Toxic Substances and Disease Registry

[Program Announcement 04004]

Public Health Conference Support Grant Program; Notice of Availability of Funds

Application Deadline:

Cycle A: November 19, 2003.

Cycle B: March 8, 2004.

Cycle C: June 1, 2004.

A. Authority and Catalog of Federal Domestic Assistance Number

The Centers for Disease Control and Prevention (CDC) program is authorized under section 317(k)(2) of the Public Health Service Act, (42 U.S.C. 247b(k)(2)) as amended. The Catalog of Federal Domestic Assistance (CFDA) number is 93.283.

The Agency for Toxic Substances and Disease Registry (ATSDR) program is authorized under sections 104(i)(14) and (15) of the Comprehensive Environmental Response, Compensation, and Liability Act of 1980 (CERCLA), as amended by the Superfund Amendments and Reauthorization Act of 1986 (SARA), [42 U.S.C. 9604(i)(14) and (15)]. The CFDA number is 93.161 for ATSDR.

B. Purpose

CDC and ATSDR announce the pending availability of appropriated fiscal year (FY) 2004 funds for a grant program for Public Health Conference Support. This program addresses the “Healthy People 2010” focus areas of Arthritis, Osteoporosis and Chronic Back Conditions, Cancer, Diabetes, Disability and Secondary Conditions, Educational and Community-Based Programs, Environmental Health, Heart Disease and Stroke, Immunization and Infectious Diseases, Injury and Violence Prevention, Maternal, Infant and Child Health, Occupational Safety and Health, Oral Health, Physical Activity and Fitness, Public Health Infrastructure, Respiratory Diseases, Sexually Transmitted Diseases, and Tobacco Use. Conferences on Access to Quality Health Services, Family Planning, Food Safety, Health Communications, Medical Product Safety, Substance Abuse, and Vision and Hearing, are not priority focus areas of CDC or ATSDR, and should be directed to other Federal Agencies.

HIV Conferences and HIV subject matter are covered under another program and are not permitted under this announcement.

The purpose of conference support funding is to provide partial support for specific non-Federal conferences (not a series) in the areas of health promotion and disease prevention information and education programs, and applied research.

Conference support by CDC/ATSDR creates the appearance of CDC/ATSDR co-sponsorship, and Congress has required that there will be active participation by CDC/ATSDR in the development and approval of the conference agenda to make sure there are no subjects that would embarrass the Government or be an improper use of funds. CDC/ATSDR funds will be expended only for approved portions of the conference.

C. Eligible Applicants

Applications for CDC support may be submitted by public and private non-profit, and faith-based organizations. Public and private non-profit entities include State and local governments or their bona fide agents, faith-based organizations, voluntary associations, foundations, civic groups, scientific or professional associations, universities, and Federally-recognized Indian tribal governments, Indian tribes, or Indian tribal organizations.

Applications for ATSDR support may be submitted by the official public health agencies of the States, or their bona fide agents. This includes the District of Columbia, American Samoa, the Commonwealth of Puerto Rico, the Virgin Islands, the Federated States of Micronesia, Guam, the Northern Mariana Islands, the Republic of the Marshall Island, the Republic of Palau, and Federally-recognized Indian Tribal governments. State organizations, including State universities, State colleges, and State research institutions must establish that they meet their respective State's legislature definition of a State entity or political subdivision to be considered an eligible applicant.

Also eligible are nationally and internationally recognized associations of health professionals and other chartered organizations generally recognized as demonstrating a need for information to protect the public from the health effects of exposure to hazardous substances. Faith-based organizations are encouraged to apply.

Only conferences planned for May 1, 2004 through September 30, 2005 are eligible to apply under this announcement.

To be eligible to apply the applicant must:

1. Propose a conference that matches only one or two topic areas identified in the “Topic Areas of Programmatic Interest” as listed in Attachment II of this announcement. (All attachments are posted with this announcement on the CDC Web site.)

2. Identify the estimated total cost of the conference and the dollar amount of the total cost requested from CDC/ATSDR (which must be less than 100 percent).

This information should be included in the cover letter submitted with the application. Applications that do not include this information and respond directly to the above information will be determined as non-responsive and will be returned without review.

Note: Title 2 of the United States Code, Chapter 26, Section 1611 states that an organization described in section 501(c)(4) of the Internal Revenue Code of 1986 that engages in lobbying activities is not eligible to receive Federal funds constituting an award, grant, cooperative agreement, contract, loan, or any other form.

D. Funding

Availability of Funds: Approximately $1,100,000 may be available from CDC in FY 2004 to fund approximately 60 to 80 awards. It is expected that the average award will be $20,000.

Approximately $25,000 is available from ATSDR in FY 2004 to fund approximately three to five awards. It is expected that the average award will be $8,000, ranging from $5,000 to $10,000.

Application requests that exceed $50,000 (CDC) or $10,000 (ATSDR) will be determined as non-responsive and will be returned to the applicant without review.

It is expected that the awards will begin on or about sixty days before the date of the conference. For FY 2004, awards will be made for each cycle with a 12-month budget period within a 12-month project period. Funding estimates may change.

Recipient Financial Participation: Matching funds are not required for this program.

Use of Funds

1. Funds may be used for direct cost expenditures: salaries; speaker fees (for services rendered); rental of necessary conference-related equipment; registration fees; and transportation costs (not to exceed economy class fare) for non-Federal individuals.

2. Funds may be used for only those parts of the conference specifically supported by CDC or ATSDR as documented in the grant award.

3. Funds may not be used for the purchase of equipment; payments of honoraria (for conferring distinction); alterations or renovations; organizational dues; support entertainment or personal expenses; food or snack breaks; cost of travel and payment of a Federal employee or per diem or expenses for local participants (other than local mileage). Travel for Federal employees will be supported by CDC/ATSDR. Travel for other Federal employees will be supported by the employees' Federal agency.

4. Funds may not be used for reimbursement of indirect costs.

5. CDC and ATSDR will not fund 100 percent of any conference proposed under this announcement. Part of the cost of the proposed conference must be supported with funds other than Federal funds.

6. CDC and ATSDR will not fund a conference after it has taken place.

7. Federal funds may not be used to fund novelty items or souvenirs.

E. Programmatic Interest Areas

The mission of CDC is to promote health and improve the quality of life by preventing and controlling disease, injury, and disability.

Through the support of conferences and meetings (not a series) in the areas of public health research, education, prevention research in program and policy development, managed care, and prevention application, CDC is meeting its overall goal of dissemination and implementation of new cost-effective intervention strategies.

The mission of ATSDR is to prevent both exposure and adverse human health effects that diminish the quality of life associated with exposure to hazardous substances from waste sites, unplanned releases, and other sources of pollution present in the environment.

ATSDR's systematic approaches are needed for linking applicable resources in public health with individuals and organizations involved in the practice of applying such research. Mechanisms are also needed to shorten the time frame between the development of disease prevention and health promotion techniques and their practical application. ATSDR believes that conferences and similar meetings (not a series) that permit individuals to engage in hazardous substances and environmental health research, education, and application (related to actual and/or potential human exposure to toxic substances) to interact, are critical for the development and implementation of effective programs to prevent adverse health effects from hazardous substances.

(See Attachment II for the specific topic areas that each Center/Agency is requesting.)

F. Program Requirements

In conducting activities to achieve the purpose of this program, the recipient will be responsible for the following activities:

1. The conference organizer(s) may use CDC's/ATSDR's name only in factual publicity for the conference. CDC/ATSDR involvement in the conference does not necessarily indicate support for the organizer's general policies, activities, products, or the content of speakers' presentations.

2. Any national conference co-sponsored under this announcement shall be held in facilities that are fully accessible to the public as required by the Americans with Disabilities Act Accessibility Guidelines (ADAAG). Accessibility under ADAAG addresses accommodations for persons with sensory impairments as well as persons with physical disabilities or mobility limitations.

3. Manage all activities related to program content (e.g., objectives, topics, attendees, session design, workshops, special exhibits, speaker's fees, agenda composition, and printing). Many of these items may be developed in concert with assigned CDC or ATSDR project personnel.

4. Provide draft copies of the agenda and proposed ancillary activities to CDC or ATSDR for approval. All but ten percent of the total funds awarded for the proposed conference will be initially restricted pending approval by CDC or ATSDR of a full, final agenda. The remaining 90 percent of funds will be released by letter to the grantee upon the approval of the final agenda. Because conference support by CDC and ATSDR creates the appearance of CDC co-sponsorship, there will be active participation by CDC or ATSDR in the development and approval of those portions of the agenda supported by CDC funds. CDC funds will not be expended for non-approved portions of meetings. In addition, CDC will reserve the right to approve or reject the content of the full agenda, press events, promotional materials (including press releases), speaker selection, and site selection. CDC and ATSDR reserves the right to terminate co-sponsorship if it does not concur with the final agenda.

5. Determine and manage all promotional activities (e.g., title, logo, announcements, mailers, press, etc.). CDC or ATSDR must review and approve any materials with reference to CDC or ATSDR involvement or support.

6. Manage all registration processes with participants, invitees, and registrants (e.g., travel, reservations, correspondence, conference materials and handouts, badges, registration procedures, etc.).

7. Plan, negotiate, and manage conference site arrangements, including all audio-visual needs.

G. Content

Letter of Intent (LOI): A Letter of Intent (LOI) is required for this Program Announcement. The LOI will not be evaluated or scored. Your letter of intent will be used to estimate the potential reviewer workload and to avoid conflicts of interest during the review. If you do not submit a LOI, you will not be allowed to submit an application.

You must submit an original and two copies. The LOI should be two to three pages in-depth, single-spaced, and typewritten. Use English only and avoid jargon and unusual abbreviations.

Applications: Beginning October 1, 2003, applicants will be required to have a Dun and Bradstreet Number (DUNS) number to apply for a grant or cooperative agreement from the Federal government. The DUNS number is a nine-digit identification number, which uniquely identifies business entities. Obtaining a DUNS number is easy and there is no charge.

You are encouraged to obtain a DUNS number now if you believe you will be submitting an application to any Federal agency on or after October 1, 2003. Proactively obtaining a new DUNS number at the current time will facilitate the receipt and acceptance of applications after September 2003.

To obtain a DUNS number, access the following Web site: http://www.dunandbradstreet.com OR call 1-866-705-5711.

Use the information in the Program Requirements and Evaluation Criteria sections to develop the application content. The application narrative should be no longer than 12 double-spaced pages, printed on one side, with one-inch margins, and 12-point font. Use English only and avoid jargon and unusual abbreviations. Pages must be clearly numbered, and a complete index to the application and its appendices must be included. The original and two required copies of the application must be submitted unstapled and unbound. Materials that are part of the basic plan should not be in the appendices.

The application should include:

1. A one-page cover letter addressing Eligibility. Include the Announcement title, number and programmatic interest area being addressed by your conference. This cover letter does not count toward the 12-page narrative limit.

2. A one-page project summary cover sheet that includes:

a. Name of organization

b. Name of conference

c. Location of conference

d. Date(s) of conference

e. Intended audience and number

f. Dollar amount requested

g. Total conference budget amount

This project summary cover sheet does not count toward the 12-page narrative limit.

3. A narrative that includes:

a. A brief background of your organization—include the organizational history, purpose, and previous experience related to the proposed conference topic.

b. A clear statement of the need for, and purpose of, the conference. This statement should also describe any problems the conference will address or seek to solve, and the action items or resolutions it may stimulate.

c. An elaboration on the conference objectives and target audience. A list should be included of the principal areas or topics to be addressed. A proposed or final agenda must be included.

d. A clear description of the evaluation plan and how it will assess the accomplishments of the conference objectives. A sample of the evaluation instrument that will be used must be included and a step-by-step schedule and detailed operation plan of major conference planning activities necessary to attain specified objectives.

e. Budget plan and justification—A clearly justified budget narrative that is consistent with the purpose, objectives, and operation plan of the conference. It should include the share requested from this grant as well as those funds from other sources, including organizations, institutions, conference income, and/or registration fees.

4. Biographical sketches are required of the individuals responsible for planning and implementing the conference. Experience and training related to conference planning and implementation as it relates to the proposed topic should be noted. The biosketches should be placed in an appendix, and will not be counted toward the 12-page narrative limit.

5. Letters of endorsement or support—Letters of endorsement or support for the sponsoring organization and its capability to perform the proposed conference activity. Letters of support should be placed in an appendix, and will not be counted toward the 12-page narrative limit.

H. Submission and Deadline (For All Applicants) Deadline

LOI and application deadlines have now been imposed for all conference support grants, and dates should be strictly followed by applicants to ensure that their LOI's and applications are received in a timely manner.

There will be three conference support reviews this year:

If your conference dates fall between May 1, 2004 and April 30, 2005, you should apply under Cycle A under this announcement.

If your conference dates fall between August 1, 2004 and July 31, 2005, you should apply under Cycle B under this announcement.

If your conference dates fall between November 1, 2004 and September 30, 2005, you should apply under Cycle C under this announcement.

If your conference dates fall between October 1, 2003 and April 30, 2004, you should have applied under the previous Program Announcement 03012, and your LOI will be considered non-responsive to Program Announcement 04004.

Letter of Intent Due Dates

Cycle A: October 1, 2003.

For conferences May 1, 2004-April 30, 2005.

Cycle B: January 6, 2004.

For conferences August 1, 2004-July 31, 2005.

Cycle C: April 1, 2004.

For conferences November 1, 2004-September 30, 2005.

Letter of Intent (LOI) Submission: On or before October 1, 2003; January 6, 2004; and April 1, 2004 submit an original and two signed copies of the LOI to: Technical Information Management (TIMS)—PA#04004, CDC Procurement and Grants Office, 2920 Brandywine Road, Atlanta, GA 30341-4146.

Applicants who do not submit a LOI will not be eligible to submit an application for review or funding.

Application Forms: Applicants must also submit the original and two copies of PHS form 5161-1, (OMB Number 0937-0189). Forms are available on the CDC Web site at: http://forms.psc.gov/forms/PHS/PHS-5161-1.pdf.

If you do not have access to the Internet, or if you have difficulty accessing the forms on-line, you may contact the CDC Procurement and Grants Office Technical Information Management Section (PGO-TIM) at: 770-488-2700. Application forms can be mailed to you.

Application due dates | Earliest possible award dates
Cycle A: November 19, 2003 | April 1, 2004.
Cycle B: March 8, 2004 | June 30, 2004.
Cycle C: June 1, 2004 | September 1, 2004.

Application Submission: On or before November 19, 2003; March 8, 2004; and June 1, 2004 submit an original and two signed copies of the application to: Technical Information Management—PA#04004, CDC Procurement and Grants Office, 2920 Brandywine Road, Atlanta, GA 30341-4146.

Applications may not be submitted electronically. Applications received that were not preceded by a LOI will not be reviewed or funded.

CDC Acknowledgement of Application Receipt: If you have a question about the receipt of your application, first contact your courier. If you still have a question, contact the PGO-TIM staff at: 770-488-2700. Before calling, please wait two to three days after the application deadline. This will allow time for applications to be processed and logged.

Letters of Intent and applications shall be considered as meeting the deadline if they are received in the CDC Procurement and Grants Office before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

I. Evaluation Criteria

Letter of Intent: The required Letter of Intent will not be evaluated or scored.

A conference is a symposium, seminar, workshop, or any other organized and formal meeting lasting one day or more (not a series), where persons assemble to exchange information and views, explore, or clarify a defined subject, problem, or area of knowledge, whether or not a published report results from such meeting. The conference should support CDC or ATSDR's public health principles in furtherance of CDC's mission or ATSDR's mission.

Application: Each application will be evaluated individually against the following criteria by an independent review group appointed by CDC.

Section 1.a., is ATSDR specific.

Section 1.b., is CDC specific.

Section 1.c., and all other sections in these criteria are applicable to both CDC and ATSDR. Each application will be evaluated based on the following criteria:

1. Proposed Program and Technical Approach (25 Points)

a. The public health significance of the proposed conference, including the degree to which the conference can be expected to influence the prevention of exposure, adverse human health effects, and diminished quality of life associated with exposure to hazardous substances from waste sites, unplanned releases, and other sources of pollution present in the environment (Applicable to ATSDR applications only).

b. The applicant's description of the proposed conference as it relates to specific non-Federal conferences in the areas of health promotion and disease prevention information/education programs (except substance abuse), including the public health need of the proposed conference and the degree to which the conference can be expected to influence public health practices. Evaluation will also be based on the extent of the applicant's collaboration with other organizations serving the intended audience (Applicable to all CDC applications except ATSDR).

c. The applicant's description of conference objectives, in terms of quality, specificity, and the feasibility of the conference based on the operational plan, will also be evaluated.

2. Conference Objectives (25 Points)

a. The overall quality, reasonableness, feasibility, and logic of the designed conference objectives, including the overall work plan and timetable.

b. The likelihood of accomplishing conference objectives, as they relate to disease prevention and health promotion goals, and the feasibility of the project in terms of the operational plan.

3. The Qualifications of Program Personnel (20 Points)

a. The extent to which the application provides evidence of the qualifications, experience, and commitment of the principal staff person, and his/her ability to devote adequate time and effort to provide effective leadership.

b. The extent to which the application provides evidence of the competence of associate staff persons, discussion leaders, speakers, and presenters to accomplish conference objectives.

c. The extent to which the application demonstrates the knowledge of nationwide and educational efforts currently underway which may affect, and be affected by, the proposed conference.

4. Evaluation Methods (20 Points)

Evaluation instrument(s) for the conference should adequately assess increased knowledge, attitudes, and behaviors of the target audience.

5. Applicant's Capability (10 Points)

a. The applicant's capability includes the adequacy of the applicant's resources (additional sources of funding, organization's strengths, staff time, proposed physical facilities, etc.) available for conducting conference activities.

b. The extent to which the applicant demonstrates a history (at least three years) of managing conferences.

6. Budget Justification and Adequacy of Facilities (Not Scored)

The proposed budget will be evaluated on the basis of its reasonableness, concise and clear justification, and consistent with the intended use of grant funds. The application will also be reviewed as to the adequacy of existing or proposed facilities and resources for conducting conference activities.

J. Other Requirements

Technical Reporting Requirements: Provide the CDC with original plus two copies of:

1. A performance report or, in lieu of a performance report, proceedings of the conference, no later than 90 days after the end of the budget/project period.

2. Financial status report, no later than 90 days after the end of the budget/project period.

Send all reports to the Grants Management Specialist identified in the “Where to Obtain Additional Information” section of this announcement.

Additional Requirements: The following additional requirements are applicable to this program. For a complete description of each, see Attachment I of this announcement as posted on the CDC Web site.

AR-7—Executive Order 12372 Review.

AR-9—Paperwork Reduction Act Requirements.

AR-10—Smoke-Free Workplace Requirements.

AR-11—Healthy People 2010.

AR-12—Lobbying Restrictions.

AR-13—Prohibition on Use of CDC Funds for Certain Gun Control Activities.

AR-15—Proof of Non-Profit Status.

AR-20—Conference Support.

K. Where To Obtain Additional Information

This and other CDC announcements, the necessary applications and associated forms can be found on the CDC Web site, Internet address: http://www.cdc.gov. Click on “Funding” then “Grants and Cooperative Agreements.”

For general questions about this announcement, contact: Technical Information Management, CDC Procurement and Grants Office, 2920 Brandywine Road, Atlanta, GA 30341-4146, Telephone: (770) 488-2700.

For business management assistance, contact: Rick Jaeger, Grants Management Specialist, Procurement and Grants Office, Centers for Disease Control and Prevention (CDC), 2920 Brandywine Road, Atlanta, Georgia 30341-4146, Telephone: (770) 488-2727, e-mail address: rjaeger@cdc.gov.

For program technical assistance, contact: Janet Telman, Funding Resource Specialist, Office of the Director Extramural Services Activity, Public Health Practice Program Office (PHPPO), Centers for Disease Control and Prevention (CDC), 4770 Buford Highway, NE, MS K38, Atlanta, Georgia 30341-3714, Telephone: (770) 488-2834, e-mail address: jtelman@cdc.gov.

Dated: August 21, 2003.
Sandra R. Manning,
Director, Program and Grants Office, Centers for Disease Control and Prevention.

[FR Doc. 03-22007 Filed 8-27-03; 8:45 am]

BILLING CODE 4163-18-P